DEPARTMENT OF HEALTH AND HUMAN SERVICES

Substance Abuse and Mental Health Services Administration

Fiscal Year (FY) 2004 Funding Opportunity

AGENCY: Center for Mental Health Services, Substance Abuse and Mental Health Services Administration, HHS.

ACTION: Notice of intent to award a Single Source Grant to the North Carolina Division of Mental Health, Developmental Disabilities, and Substance Abuse Services.

SUMMARY: This notice is to inform the public that the Substance Abuse and Mental Health Services Administration (SAMHSA), Center for Mental Health Services, intends to award approximately $150,000 (total costs) for a 1-year project to the North Carolina Division of Mental Health, Developmental Disabilities, and Substance Abuse Services. This is not a formal request for applications. Assistance will be provided only to the North Carolina Division of Mental Health, Developmental Disabilities, and Substance Abuse Services based on the receipt of a satisfactory application that is approved through an objective review process.

Funding Opportunity Title: Kannapolis, North Carolina Outreach and Intervention Project (SM 04-014).

Catalog of Federal Domestic Assistance (CFDA) Number: 93.243.

Authority: Section 509 and 520A of the Public Health Service Act, as amended.

Justification: The Substance Abuse and Mental Health Services Administration's (SAMHSA) Center for Mental Health Services (CMHS) intends to award a single source grant to the North Carolina Division of Mental Health, Developmental Disabilities, and Substance Abuse Services to assess the need for mental health and substance abuse services in Cabarrus and Rowan Counties, to develop and implement outreach activities to encourage those in need of mental health and/or substance abuse services to seek assistance, and to facilitate service delivery.

Cabarrus and Rowan Counties are in south central North Carolina where the primary employer had been a textile plant owned by a company named Pillotex. In July of 2003, the company went bankrupt and the plant was closed resulting in 4,300 individuals in the two counties losing their jobs. Forty-two percent of the individuals in the two counties have a relative who was affected by the layoff. This closing came at a time when the whole economy of the area was depressed. One-year later 75 percent of the individuals are still unemployed and are facing the loss of their medical benefits either because their benefit period is up or they can no longer pay the large premium involved. The community shows signs of stress as incidences of domestic violence are up over 40 percent and child welfare cases are up over 40 percent as well.

A recent informal survey conducted by the Community Service Center serving Cabarrus and Rowan Counties indicate that the most unmet need is for mental health and substance abuse services. Yet these are individuals who have not had to depend on public service systems their entire life and would be reticent to approach such services even if desperately needed.

This grant is to design and implement community education, prevention, intervention and short term mental health and substance abuse and family treatment services and supports and to work in collaboration with a project steering committee and community partners to provide direct concerted outreach efforts and facilitate the involvement of those in need of such services.

Only the North Carolina Division of Mental Health, Developmental Disabilities and Substance Abuse Services is eligible for funding under this announcement because it is the State of North Carolina that is responsible for the provision of mental health and substance abuse services in the State which it does through regional offices. The regional office that would carry out the responsibilities of the grant would be the Piedmont Behavioral Healthcare. Giving the grant to the State of North Carolina will ensure that the services under this grant are integrated into the existing system of care and is coordinated with other State programs relating to primary health care, education, social services, juvenile services, child welfare, etc.

FOR FURTHER INFORMATION CONTACT: Dr. Ronald Manderscheid, SAMHSA/CMHS, 5600 Fishers Lane, Suite 15C04, Rockville, Maryland 20857; telephone: (301) 443-3343; e-mail: rmanders@samhsa.gov.

Dated: August 13, 2004.
Margaret Gilliam,
Acting Associate Administrator for Policy, Planning and Budget.

[FR Doc. 04-19055 Filed 8-19-04; 8:45 am]

BILLING CODE 4162-20-P